DEPARTMENT OF ENERGY

Federal Energy Regulatory Commission

Notice of Application Accepted for Filing and Soliciting Motions To Intervene and Protests

March 21, 2003.

Take notice that the following hydroelectric application has been filed with the Commission and is available for public inspection.

a. Type of Application: New license.

b. Project No.: 2726-012.

c. Date filed: July 29, 2002.

d. Applicant: Idaho Power Company.

e. Name of Project: Upper and Lower Malad Hydroelectric Project.

f. Location: On the Malad River, in the Town of Hagerman, Gooding County, Idaho.

g. Filed Pursuant to: Federal Power Act, 16 U.S.C. 791(a)-825(r).

h. Applicant Contact: Robert W. Stahman, Idaho Power Company, 1221 West Idaho Street, Boise, Idaho 83707, (208) 388-2676.

i. FERC Contact: John Blair, (202) 502-6092 or john.blair@FERC.gov.

j. Deadline for filing motions to intervene and protests: 60 days from the issuance date of this notice.

All documents (original and eight copies) should be filed with: Magalie R. Salas, Secretary, Federal Energy Regulatory Commission, 888 First Street, NE., Washington, DC 20426.

The Commission's rules of practice require all interveners filing documents with the Commission to serve a copy of that document on each person on the official service list for the project. Further, if an intervener files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link. The Commission encourages electronic filings.

k. This application has been accepted, but is not ready for environmental analysis at this time.

l. Description of the Project: the project consists of (1) an upper diversion dam consisting of a gated spillway section 100 feet long and a flume section 123 long; (2) a concrete flume 4,635 feet long between the upper diversion dam and the upper intake structure; (3) the upper concrete intake structure 80.5 feet long and approximately 21 feet wide; (4) a steel penstock 10 feet in diameter and approximately 238 feet long connected to the upper powerhouse; (5) the upper reinforced concrete powerhouse containing one generating unit having an installed nameplate capacity of 8.27 megawatts; (6) a lower diversion dam consisting of a gated spillway section 163 feet long and a flume section 136 feet long; (7) a concrete flume 5,318 feet long between the lower diversion dam and the lower intake structure; (8) the lower concrete intake structure 85 feet long and approximately 23 feet wide; (9) a steel penstock 12 feet in diameter and approximately 301 feet long connected to the lower powerhouse; (10) the lower reinforced concrete powerhouse containing one generating unit having an installed capacity of 13.5 megawatts; and (11) other appurtenances.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit a protest or a motion to intervene in accordance with the requirements of rules of practice and procedure, 18 CFR 385.210, 385.211, and 385.214. In determining the appropriate action to take, the Commission will consider all protests filed, but only those who file a motion to intervene in accordance with the Commission's rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 03-7419 Filed 3-27-03; 8:45 am]

BILLING CODE 6717-01-P